DEPARTMENT OF ENERGY

Notice of Availability of the Supplement to the Draft Environmental Impact Statement for the Gilberton Coal-to-Clean Fuels and Power Project

AGENCY: Department of Energy.

ACTION: Notice of availability.

SUMMARY: The U.S. Department of Energy (DOE) announces the availability for public comment of a Supplement to the Draft Environmental Impact Statement for the Gilberton Coal-to-Clean Fuels and Power Project (DOE/EIS-0357D-S1), prepared in response to comments on the original Draft Environmental Impact Statement (EIS) issued in December 2005. This Supplement corrects information regarding carbon dioxide (CO2) emissions from the proposed Gilberton plant, provides information on the feasibility of carbon sequestration for the CO2 emissions from the Gilberton plant, and presents additional information regarding CO2-related cumulative impacts.

It should be noted that the Supplement contains only those sections affected by comments related to CO2 emissions and sequestration, and DOE is inviting comments only on those sections. Comments on the original Draft EIS need not be resubmitted.

DATES: DOE invites the public to comment on the Supplement to the Draft EIS during the public comment period, which ends February 27, 2007. DOE will consider all comments postmarked or received during the public comment period in preparing the Final EIS, and will consider late comments to the extent practicable. DOE will consider and respond to all comments submitted on the original Draft EIS in preparing the Final EIS.

ADDRESSES: Requests for information about this Supplement to the Draft EIS or to receive a copy of the Supplement or the Draft EIS should be directed to: Janice L. Bell, NEPA Document Manager, U.S. Department of Energy, National Energy Technology Laboratory, M/S 58-247A, P.O. Box 10940, Pittsburgh, PA 15236. Additional information about the Supplement or the Draft EIS may also be requested by telephone at: (412) 386-4512, or toll-free at: 1-866-576-8240.

The Supplement to the Draft EIS will be available at http://www.eh.doe.gov/nepa. The original Draft EIS is available at the same Internet address. Copies of the Supplement to the Draft EIS are also available for review at the locations listed in the SUPPLEMENTARY INFORMATION section of this Notice. Written comments on the Supplement to the Draft EIS can be mailed to Janice L. Bell, NEPA Document Manager, at the address noted above. Written comments may also be submitted by fax to: (412) 386-4806, or submitted electronically to: jbell@netl.doe.gov. In addition, oral comments on the Supplement to the Draft EIS can be provided by calling the toll-free telephone number: 1-866-576-8240.

FOR FURTHER INFORMATION CONTACT: For general information regarding the DOE NEPA process, please contact: Ms. Carol M. Borgstrom, Director, Office of NEPA Policy and Compliance (GC-20), U.S. Department of Energy, 1000 Independence Avenue, SW., Washington, DC 20585, Telephone: (202) 586-4600, or leave a message at: (800) 472-2756.

SUPPLEMENTARY INFORMATION:

Background

The Department prepared this Supplement to the Draft EIS in accordance with the National Environmental Policy Act of 1969 (NEPA) (42 U.S.C. 4321 et seq.), the Council on Environmental Quality (CEQ) regulations that implement the procedural provisions of NEPA (40 CFR parts 1500-1508), and the DOE procedures implementing NEPA (10 CFR part 1021).

In the original Draft EIS, issued in December 2005, DOE's proposed action (and preferred alternative) is to provide cost-shared funding to design, construct, and operate a new plant to demonstrate coproduction of 41 MW of electricity, steam, and over 5,000 barrels-per-day of ultra-clean liquid hydrocarbon products (primarily diesel fuel and naphtha). The demonstration plant would use a gasifier to convert coal waste to synthesis gas, which would be conveyed to Fischer-Tropsch (F-T) liquefaction facilities for production of liquid fuels and to a combined-cycle power plant. The demonstration facilities, to be constructed in Gilberton, Schuylkill County, Pennsylvania, would process up to 4,700 tons per day of coal waste (anthracite culm). The potential environmental impacts of this action are evaluated in the Draft EIS. The Draft EIS also analyzed the No Action Alternative, under which DOE would not provide cost-shared funding to demonstrate the commercial-scale integration of coal gasification and F-T synthesis technology to produce electricity, steam and liquid fuels. Under the No-Action Alternative, it is reasonably foreseeable that no new activity would occur.

Among the public comments received on the Draft EIS were those from the Natural Resources Defense Council (NRDC) regarding how the Draft EIS addressed CO2 emissions. The NRDC comments expressed concern about the potential impacts on global warming and questioned the accuracy of the annual rate of CO2 emissions reported in the Draft EIS. The comments also requested DOE to enhance the analysis of potential CO2-related cumulative impacts, further explore the feasibility of CO2 sequestration, and provide a public comment opportunity on the revised sections of the EIS. DOE also received similar comments on CO2 emissions and carbon sequestration from other organizations and individuals: the Coalition of Concerned Coal Region Citizens; the Mid-Atlantic Environmental Law Center; the Citizens for Pennsylvania's Future; Mike Ewall; Edward and Helen Sluzis; and James Kotcon.

In considering the comments received on the Draft EIS, DOE determined that the annual rate of CO2 emissions reported in the Draft EIS included only the quantity of CO2 that would be emitted directly. The reported quantity did not include a larger quantity of CO2 in a concentrated stream exiting the gas cleanup system. While it was previously anticipated that the concentrated CO2 stream would be sold as a byproduct, the industrial participant has informed DOE that the commercial sale of the CO2 would not occur in the foreseeable future. Therefore, all of the CO2 would be emitted to the atmosphere. DOE has prepared the Supplement to clarify the total emissions rate accordingly. DOE has also enhanced the discussion of cumulative impacts and the feasibility of carbon sequestration.

Availability of the Supplement to the Draft EIS

Copies of this Supplement to the Draft EIS have been distributed to Members of Congress, Federal, State, and local officials, and agencies, organizations and individuals who may be interested or affected. To obtain copies of the Supplement and the original Draft EIS, see ADDRESSES above. The Supplement and the Draft EIS are also available in the public reading rooms of the following public libraries: Frackville Free Public Library, 56 N. Lehigh Avenue, Frackville, PA 17931; Mahanoy City Public Library, 17-19 West Mahanoy Avenue, Mahanoy City, PA 17948; and the Pottsville Free Library, 215 West Market Street, Pottsville, PA 17901.

It should be noted that the Supplement contains only those sections affected by comments related to CO2 emissions and sequestration, and DOE is inviting comments only on those sections. Comments on the original Draft EIS need not be resubmitted.

Issued in Washington, DC, on January 9, 2007.
Mark J. Matarrese,
Director, Office of Environment, Security, Safety and Health, Office of Fossil Energy.

[FR Doc. E7-409 Filed 1-12-07; 8:45 am]

BILLING CODE 6450-01-P